COMMODITY FUTURES TRADING COMMISSION

Agency Information Collection Activities: Notice of Intent To Renew Collection 3038-0031, Procurement Contracts

AGENCY: Commodity Futures Trading Commission.

ACTION: Notice.

SUMMARY: In compliance with the Paperwork Reduction Act (PRA), this notice announces that the Information Collection Request (ICR) abstracted below has been forwarded to the Office of Management and Budget (OMB) for review and comment. The ICR describes the nature of the information collection and its expected costs and burden.

DATES: Comments must be submitted on or before September 23, 2019.

ADDRESSES: Comments regarding the burden estimated or any other aspect of the information collection, including suggestions for reducing the burden, may be submitted directly to the Office of Information and Regulatory Affairs (OIRA) in OMB, within 30 days of this notice's publication, by either of the following methods. Please identify the comments by “OMB Control No. 3038-0031.”

• By email addressed to: OIRAsubmissions@omb.eop.gov or

• By mail addressed to: The Office of Information and Regulatory Affairs, Office of Management and Budget, Attention Desk Officer for the Commodity Futures Trading Commission, 725 17th Street NW, Washington, DC 20503.

A copy of all comments submitted to OIRA should be sent to the Commodity Futures Trading Commission (Commission) by any of the following methods. The copies should refer to “OMB Control No. 3038-0031.”

• By mail addressed to: Christopher Kirkpatrick, Secretary of the Commission, Commodity Futures Trading Commission, Three Lafayette Centre, 1155 21st Street NW, Washington, DC 20581;

• By Hand Delivery/Courier to the same address; or

• Through the Commission's website at http://comments.cftc.gov. Please follow the instructions for submitting comments through the website.

Please submit your comments to the Commission using only one method. A copy of the supporting statement for the collection of information discussed herein may be obtained by visiting http://RegInfo.gov.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from http://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: William M. Roberson, Senior Procurement Executive, Financial Management Branch, Commodity Futures Trading Commission, Three Lafayette Centre, 1122 21st Street NW, Washington, DC 20581; phone: (202) 418-5367; fax: (202) 418-5414; email: wroberson@cftc.gov, and refer to OMB Control No. 3038-0031.

SUPPLEMENTARY INFORMATION: Title: Procurement Contracts (OMB Control No. 3038-0031). This is a request for an extension of a currently approved information collection.

Abstract: The information collection consists of data gathered through the use of procurement forms, specific to a contract or contracting action, relating to solicitations, amendments to solicitations, requests for quotations, construction contracts, awards of contracts, performance bonds, and payment information for individuals (vendors) or contractors engaged in providing supplies or services, as specified in the Federal Acquisition Regulations (48 CFR parts 1-53).

An agency may not conduct or sponsor, and a person is not required to respond to, a collection of information unless it displays a currently valid OMB control number. On June 14, 2019, the Commission published in the Federal Register notice of the proposed extension of this information collection and provided 60 days for public comment on the proposed extension, 84 FR 27770 (60-Day Notice). The Commission did not receive any relevant comments on the 60-Day Notice.

Burden statement: The Commission is revising its burden estimate for this collection to reflect changed circumstances, as follows: ²

² The changes in the current renewal reflect the fact that acquisition requirements change from year to year. Estimated burden increases are also due to the Commission's higher acquisition volume, normal inflation and fluctuations in the economy.

Respondents/affected entities: Vendors and contractors.

Estimated number of respondents: 758.

Estimated burden hours per response: 2 hours.

Estimated total annual burden on respondents: 1,516 hours.

Frequency of responses: Annually.

There are no capital costs or operating and maintenance costs associated with this collection.

Authority: 44 U.S.C. 3501 et seq.

Dated: August 20, 2019.
Robert Sidman,
Deputy Secretary of the Commission.

[FR Doc. 2019-18225 Filed 8-22-19; 8:45 am]

BILLING CODE 6351-01-P